INTERNATIONAL TRADE COMMISSION

[Investigation No. 731-TA-44 (Second Review)]

Sorbitol from France

AGENCY: International Trade Commission.

ACTION: Revised schedule for the subject review.

EFFECTIVE DATE: June 28, 2004.

FOR FURTHER INFORMATION CONTACT: Fred Fischer (202-205-3179 or fred.fischer@usitc.gov), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS) at http://edis.usitc.gov.

SUPPLEMENTARY INFORMATION: On May 7, 2004, the Commission established a schedule for the conduct of the subject expedited five-year review (69 FR 28949, May 19, 2004). Subsequently, on June 3, 2004, the Department of Commerce (Commerce) extended the time limit for its final results in the expedited five-year review from June 1, 2004, to not later than June 15, 2004 (69 FR 31354). On June 22, 2004, Commerce again extended the time limit for its final results from June 15, 2004, to not later than June 30, 2004 (69 FR 34652). Commerce published its final results for the subject review on June 28, 2004 (69 FR 36062). The Commission, therefore, has determined to exercise its authority to extend the review period by up to 90 days pursuant to 19 U.S.C. 1675(c)(5)(B),¹ and is revising its schedule to reflect the date of the final results of Commerce's expedited sunset review.

¹ As a transition order five-year review, the Commission determines that the subject review is extraordinarily complicated pursuant to section 751(c)(5)(C) of the Tariff Act of 1930.

As provided for in the Commission's original scheduling notice (69 FR 28949, May 19, 2004), final party comments concerning Commerce's final results of its expedited sunset review are due three business days after the issuance of Commerce's results, or in this case by July 1, 2004.

For further information concerning this expedited review see the Commission's notice cited above and the Commission's rules of practice and procedure, part 201, subparts A through E (19 CFR part 201), and part 207, subparts A and C (19 CFR part 207).

Authority: This review is being conducted under authority of title VII of the Tariff Act of 1930; this notice is published pursuant to section 207.62 of the Commission's rules.

Issued: June 29, 2004.
By order of the Commission.
Marilyn R. Abbott,
Secretary to the Commission.

[FR Doc. 04-15060 Filed 7-1-04; 8:45 am]

BILLING CODE 7020-02-P